ENVIRONMENTAL PROTECTION AGENCY

40 CFR Part 282

[EPA-R04-UST-2020-0696; FRL-9057-02-R4]

Commonwealth of Kentucky: Codification and Incorporation by Reference of Approved State Underground Storage Tank Program

AGENCY: Environmental Protection Agency (EPA).

ACTION: Direct final rule.

SUMMARY: The Resource Conservation and Recovery Act of 1976 (RCRA), as amended, authorizes the Environmental Protection Agency (EPA) to grant approval to States to operate their underground storage tank (UST) programs in lieu of the Federal program. The Commonwealth of Kentucky (Commonwealth or State) applied to the EPA for final approval of its UST Program on October 7, 2019, and on September 16, 2020, the EPA published a final determination and approval of the Commonwealth's UST Program. This action codifies the EPA's prior approval of the Commonwealth's UST Program, and incorporates by reference approved provisions of the State's statutes and regulations.

DATES: This rule is effective March 28, 2022, unless the EPA receives adverse comment by February 24, 2022. If the EPA receives adverse comment, it will publish a timely withdrawal in the Federal Register informing the public that the rule will not take effect. The incorporation by reference of certain publications listed in the regulations is approved by the Director of the Federal Register as of March 28, 2022.

ADDRESSES: Comments may be submitted by one of the following methods:

• Federal eRulemaking Portal: https://www.regulations.gov (our preferred method). Follow the online instructions for submitting comments.

• Email: singh.ben@epa.gov. Include the Docket ID No. EPA-R04-UST-2020-0696 in the subject line of the message.

Instructions: Submit your comments, identified by Docket ID No. EPA-R04-UST-2020-0696, via the Federal eRulemaking Portal at https://www.regulations.gov. Follow the online instructions for submitting comments. Once submitted, comments cannot be edited or removed from https://www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit: https://www.epa.gov/dockets/commenting-epa-dockets.

Out of an abundance of caution for members of the public and our staff, the public's access to the EPA Region 4 Offices is by appointment only to reduce the risk of transmitting COVID-19. We encourage the public to submit comments via https://www.regulations.gov or via email. The EPA encourages electronic comment submittals, but if you are unable to submit electronically or need other assistance, please contact Ben Singh, the contact listed in the FOR FURTHER INFORMATION CONTACT provision below. The index to the docket for this action is available electronically at https://www.regulations.gov. The documents that form the basis of this codification and associated publicly available docket materials are available for review on the https://www.regulations.gov website. The EPA encourages electronic reviewing of these documents, but if you are unable to review these documents electronically, please contact Ben Singh to schedule an appointment to view the documents at the Region 4 Offices. Interested persons wanting to examine these documents should make an appointment at least two weeks in advance. The EPA Region 4 requires all visitors to adhere to the COVID-19 protocol. Please contact Ben Singh for the COVID-19 protocol requirements prior to your appointment.

Please also contact Ben Singh if you need assistance in a language other than English or if you are a person with disabilities who needs a reasonable accommodation at no cost to you. For further information on the EPA Docket Center services and the current status, please visit us online at https://www.epa.gov/dockets.

The EPA continues to carefully and continuously monitor information from the Centers for Disease Control and Prevention, local area health departments, and our Federal partners so that we can respond rapidly as conditions change regarding COVID-19.

FOR FURTHER INFORMATION CONTACT: Ben Singh, RCRA Programs and Cleanup Branch, Land, Chemicals and Redevelopment Division, U.S. Environmental Protection Agency, Region 4, Atlanta Federal Center, 61 Forsyth Street SW, Atlanta, Georgia 30303-8960; Phone number: (404) 562-8922; email address: singh.ben@epa.gov. Please contact Ben Singh by phone or email for further information.

SUPPLEMENTARY INFORMATION:

I. Codification

Codification is the process of placing citations and references to a State's statutes and regulations that comprise a State's approved UST program into the Code of Federal Regulations (CFR). The EPA codifies its approval of State programs in 40 CFR part 282 and incorporates by reference State statutes and regulations that the EPA can enforce, after the approval is final, under sections 9005 and 9006 of RCRA, and any other applicable statutory provisions. The incorporation by reference of the EPA-approved State programs in the CFR should substantially enhance the public's ability to discern the status of the approved State UST programs and State requirements that can be federally enforced. This effort provides clear notice to the public of the scope of the approved program in each State.

A. For what has the Commonwealth previously been approved?

On September 16, 2020, the EPA published a notice in the Federal Register announcing its decision to grant final approval to the Commonwealth to operate its UST Program as described in an October 7, 2019 State Application (85 FR 57754). The State UST Program regulations were amended effective April 5, 2019, and included revisions which correspond to the EPA final rule published on July 15, 2015 (80 FR 41566), which revised the 1988 UST regulations and the 1988 State program approval (SPA) regulations (2015 Federal Revisions). As a result of the EPA's approval, these provisions became subject to the EPA's corrective action, inspection, and enforcement authorities under RCRA sections 9003(h), 9005, and 9006, 42 U.S.C. 6991b(h), 6991d, and 6991e, and other applicable statutory and regulatory provisions.

B. What codification decision has the EPA made in this rule?

In this rule, the EPA is finalizing regulatory text that incorporates by reference the federally approved Kentucky UST Program. In accordance with the requirements of 1 CFR 51.5, the EPA is incorporating by reference the Commonwealth's statutes and regulations as described in the amendments to 40 CFR part 282 set forth below. These documents are available through https://www.regulations.gov. This codification reflects the State UST Program in effect at the time the EPA granted its approval of the Kentucky UST Program, and only the EPA-approved provisions of the Kentucky UST Program will be incorporated by reference.

To codify the EPA's approval of Kentucky's UST Program, the EPA has added section 282.67 to Title 40 of the CFR. More specifically, in 40 CFR 282.67(d)(1)(i), the EPA is incorporating by reference the EPA-approved Kentucky UST Program. Section 282.67(d)(1)(ii) identifies the State's statutes and regulations that are part of the approved State UST Program, although not incorporated by reference for enforcement purposes, unless they impose obligations on regulated entities. Section 282.67(d)(1)(iii) identifies the State's statutory and regulatory provisions that are broader in scope or external to the State's approved UST Program and therefore not incorporated by reference. Section 282.67(d)(2) through (d)(5) reference the Attorney General's Statement, Demonstration of Adequate Enforcement Procedures, Program Description, and Memorandum of Agreement, which are part of the State Application and part of the UST Program under subtitle I of RCRA.

C. What is the effect of the EPA's codification of the federally approved Kentucky UST Program on enforcement?

The EPA retains the authority under sections 9003(h), 9005, and 9006 of subtitle I of RCRA, 42 U.S.C. 6991b(h), 6991d, and 6991e, and other applicable statutory and regulatory provisions, to undertake corrective action, inspections, and enforcement actions, and to issue orders in approved States. If the EPA determines it will take such actions in Kentucky, the EPA will rely on Federal sanctions, Federal inspection authorities, and other Federal procedures rather than the State analogs. Therefore, the EPA is not incorporating by reference the Commonwealth's procedural and enforcement authorities, although they are listed in 40 CFR 282.67(d)(1)(ii) and were previously considered by the EPA in determining the adequacy of Kentucky's enforcement authority. The Commonwealth's authority to inspect and enforce the State's UST Program continues to operate independently under State law.

D. What State provisions are not part of the codification?

Some provisions of the State's UST Program are not part of the federally approved State UST Program. Where an approved State program has provisions that are broader in scope than the Federal program, those provisions are not a part of the federally approved program. As a result, State provisions which are broader in scope than the Federal program are not incorporated by reference for purposes of enforcement in part 282. See 40 CFR 281.12(a)(3)(ii). In addition, provisions that are external to the State UST Program approval requirements, but included in the State Application, are also being excluded from incorporation by reference in part 282. For reference and clarity, 40 CFR 282.67(d)(1)(iii) lists the Kentucky statutory and regulatory provisions which are broader in scope than the Federal program or external to State UST program approval requirements. These provisions are, therefore, not part of the approved UST Program that the EPA is codifying. Although these provisions cannot be enforced by the EPA, the State will continue to implement and enforce such provisions under State law.

E. Why is the EPA using a direct final rule?

The EPA is publishing this direct final rule without a prior proposed rule because we view this action as noncontroversial and anticipate no adverse comment. Notice and opportunity for comment were provided earlier on the EPA's decision to approve the Kentucky program, and the EPA is not now reopening that decision nor requesting comment on it.

F. What happens if the EPA receives comments that oppose this codification?

Along with this direct final rule, the EPA is simultaneously publishing a separate document in the “Proposed Rules” section of this Federal Register that serves as the proposal to codify the State's UST Program, and provides an opportunity for public comment. If the EPA receives comments that oppose this codification, the EPA will withdraw this direct final rule by publishing a document in the Federal Register before it becomes effective. The EPA will make any further decision on codification of the State UST Program after considering all comments received during the comment period. The EPA will then address all public comments in a later final rule.

II. Statutory and Executive Order Review

This action merely codifies Kentucky's UST Program that the EPA has previously approved pursuant to RCRA Section 9004 and does not impose additional requirements other than those imposed by State law. For these reasons, this action:

• Is not a significant regulatory action and has been exempted from review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not subject to Executive Order 13211 (66 FR 28355, May 22, 2001) because it is not a “significant regulatory action” under Executive Order 12866 (58 FR 51735, October 4, 1993);

• Is not subject to the requirements of section 12(d) of the National Technology Transfer and Advancement Act of 1995 (15 U.S.C. 272 note) because application of those requirements would be inconsistent with RCRA;

• Does not provide the EPA with the discretionary authority to address, as appropriate, disproportionate human health or environmental effects, using practicable and legally permissible methods, under Executive Order 12898 (59 FR 7629, February 16, 1994); and

• Does not apply on any Indian reservation land or in any other area where the EPA or an Indian tribe has demonstrated that a tribe has jurisdiction. The rule does not have tribal implications as specified by Executive Order 13175 (65 FR 67249, November 9, 2000), nor will it impose substantial direct costs on tribal governments or preempt tribal law.

As required by section 3 of Executive Order 12988 (61 FR 4729, February 7, 1996), in issuing this rule, the EPA has taken the necessary steps to eliminate drafting errors and ambiguity, minimize potential litigation, and provide a clear legal standard for affected conduct.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this document and other required information to the U.S. Senate, the U.S. House of Representatives, and the Comptroller General of the United States prior to publication in the Federal Register. A major rule cannot take effect until 60 days after it is published in the Federal Register. This action is not a “major rule” as defined by 5 U.S.C. 804(2). This final action will be effective March 28, 2022.

List of Subjects in 40 CFR Part 282

Administrative practice and procedure, Environmental protection, Hazardous substances, Incorporation by reference, Petroleum, Reporting and recordkeeping requirements, State program approval, and Underground storage tanks.

Authority: This action is issued under the authority of sections 2002(a), 7004(b), 9004, 9005 and 9006 of the Solid Waste Disposal Act, as amended, 42 U.S.C. 6912(a), 6974(b), 6991c, 6991d, and 6991e.

Dated: January 18, 2022.
Daniel Blackman,
Regional Administrator, Region 4.

For the reasons set forth in the preamble, the EPA is amending 40 CFR part 282 as follows:

PART 282—APPROVED UNDERGROUND STORAGE TANK PROGRAMS

1. The authority citation for part 282 continues to read as follows:

Authority: 42 U.S.C. 6912, 6991c, 6991d, and 6991e.

Subpart B—Approved State Programs

2. Add § 282.67 to read as follows:

§ 282.67 Kentucky State-Administered Program.

(a) History of the approval of Kentucky's UST Program. The Commonwealth of Kentucky (Commonwealth or Kentucky) is approved to administer and enforce an underground storage tank (UST) program in lieu of the federal program under subtitle I of the Resource Conservation and Recovery Act of 1976 (RCRA), as amended, 42 U.S.C. 6991 et seq. The State's UST Program, as administered by the Kentucky Department for Environmental Protection (KDEP), was approved by the EPA pursuant to 42 U.S.C. 6991c and part 281 of this chapter. The EPA published the notice of final determination approving the Kentucky UST Program on September 16, 2020, and that approval became effective immediately.

(b) Enforcement authority. Kentucky has primary responsibility for enforcing its UST Program. However, the EPA retains the authority to exercise its corrective action, inspection, and enforcement authorities under sections 9003(h), 9005, and 9006 of subtitle I of RCRA, 42 U.S.C. 6991b(h), 6991d, and 6991e, as well as under other statutory and regulatory provisions.

(c) Retention of program approval. To retain program approval, Kentucky must revise its approved UST Program to adopt new changes to the federal subtitle I program which make it more stringent, in accordance with section 9004 of RCRA, 42 U.S.C. 6991c, and 40 CFR part 281, subpart E. If Kentucky obtains approval for revised requirements pursuant to section 9004 of RCRA, 42 U.S.C. 6991c, the newly approved statutory and regulatory provisions will be added to this subpart and notice of any change will be published in the Federal Register.

(d) Final approval. Kentucky has final approval for the following elements submitted to the EPA and approved effective September 16, 2020.

(1) State statutes and regulations—(i) Incorporation by reference. The Kentucky materials cited in this paragraph and listed in appendix A to this part, are incorporated by reference as part of the UST Program under subtitle I of RCRA, 42 U.S.C. 6991 et seq. The Director of the Federal Register approves this incorporation by reference in accordance with 5 U.S.C. 552(a) and 1 CFR part 51. You may access copies of the Kentucky statutes and regulations that are incorporated by reference from the Kentucky Department for Environmental Protection, Underground Storage Tank Branch, 300 Sower Boulevard, 2nd Floor, Frankfort, Kentucky 40601. You may also access copies of the statues and regulations that are incorporated by reference from the Kentucky Legislative Research Commission at the following website: https://legislature.ky.gov/Pages/index.aspx. You may inspect all approved material at the EPA Region 4, 61 Forsyth Street SW, Atlanta, Georgia 30303; Phone number: (404) 562-9900; or the National Archives and Records Administration (NARA), email: fr.inspection@nara.gov; website: https://www.archives.gov/federal-register/cfr/ibr-locations.html.

(A) Kentucky Statutory Requirements Applicable to the Underground Storage Tank Program, dated September 10, 2021.

(B) Kentucky Regulatory Requirements Applicable to the Underground Storage Tank Program, dated September 10, 2021.

(ii) Legal basis. The EPA considered the following statutes and regulations which provide the legal basis for the State's implementation of the UST Program, but these provisions do not replace Federal authorities. Further, these provisions are not incorporated by reference, unless the provisions place requirements on regulated entities.

(A) Kentucky Revised Statutes (KRS), Chapter 61, subchapters 870 to 884 (2018)—insofar as these provisions relate to authorities enabling public participation and the sharing of information.

(B) Kentucky Revised Statutes (KRS), Chapter 224 (2017):

(1) KRS 224.1-400(9) and (11), insofar as these provisions provide authority for release reporting and notification to KDEP.

(2) KRS 224.10-100(5), (10), and (28), insofar as these provisions relate to the general powers and duties of KDEP to prevent pollution, conduct inspections and compliance monitoring, and promulgate UST regulations.

(3) KRS 224.10-410, insofar as it relates to the authority of KDEP to issue an order for corrective measures without a hearing.

(4) KRS 224.10-420(2), insofar as it relates to the administrative processes governing enforcement proceedings and public participation in the enforcement process.

(5) KRS 224.10-440, insofar as it relates to regulations governing the procedural requirements for administrative hearings.

(6) KRS 224.60-105(2)-(4), insofar as these provisions relate to the general authority of KDEP to regulate USTs and the preemption of local laws, ordinances, and regulations.

(7) KRS 224.60-120(6), insofar as it relates to the authority of KDEP to promulgate administrative regulations for implementing financial responsibility requirements.

(8) KRS 224.60-135(1), (2), and (4), insofar as these provisions relate to the authority of KDEP to require or initiate corrective action for releases into the environment.

(9) KRS 224.60-137(3), insofar as it relates to the duty of KDEP to develop standards for corrective action.

(10) KRS 224.60-138, insofar as it relates to the duties of KDEP to determine whether corrective action for a release from or closure of a petroleum UST has been completed.

(11) KRS 224.60-155, insofar as it relates to the authority of KDEP to assess a civil penalty for failure to comply with the administrative regulations.

(12) KRS 224.99-010(9), insofar as it applies to KRS 224.1-400, and relates to the authority to assess a civil penalty and the concurrent jurisdiction and venue of the Franklin Circuit Court.

(13) KRS 224.99-020, insofar as it relates to the authority to commence an enforcement action to require compliance, or recovery of penalties or costs.

(C) Kentucky Rules of Civil Procedure, Rule 24, insofar as it provides for public participation in the State enforcement process, including intervention.

(D) 401 Kentucky Administrative Regulations (KAR) 42:020 (2019)—Section 18, insofar as it relates to the authority of KDEP to implement delivery prohibition.

(E) 400 Kentucky Administrative Regulations (KAR) Chapter 1 (2018):

(1) 400 KAR 1:090, insofar as it establishes procedures for administrative hearings to enforce compliance, and provides for public participation.

(2) 400 KAR 1:100, insofar as it contains the general administrative hearing practice provisions governing matters brought to enforce compliance with the UST Program.

(iii) Other provisions not incorporated by reference. The following statutory and regulatory provisions are broader in scope than the federal program or external to the State UST program approval requirements. Therefore, these provisions are not part of the approved program, and are not incorporated by reference herein:

(A) Kentucky Revised Statutes (KRS) Chapter 224:

(1) KRS 224.60-110 is external insofar as it contains the Kentucky General Assembly's legislative intent with respect to the regulation of petroleum underground storage tanks.

(2) KRS 224.60-130 is broader in scope insofar as it relates to the administration of the petroleum storage tank environmental assurance fund.

(3) KRS 224.60-135(3) is external insofar as it relates to the obligation of KDEP to notify the UST owner or operator prior to initiating or contracting for corrective action.

(4) KRS 224.60-135(5) is broader in scope insofar as it relates to the authority of the State Fire Marshal to promulgate regulations requiring persons who install, repair, close or remove USTs to demonstrate financial assurance.

(5) KRS 224.60-137(1), (2), and (4) are external insofar as they relate to contracting with the University of Kentucky for the purpose of updating standards for corrective action and for the Cabinet to develop an inventory of facilities eligible for reimbursement.

(6) KRS 224.60-140 is broader in scope insofar as it relates to the creation and administration of a petroleum storage tank environmental assurance fund.

(7) KRS 224.60-142 is broader in scope insofar as it relates to UST registration requirements applicable to participation in the petroleum storage tank environmental assurance fund.

(8) KRS 224.60-145 is broader in scope insofar as it relates to the establishment of an environmental assurance fee and deposit fee, and insofar as it relates to administration of accounts in the petroleum storage tank environmental assurance fund.

(9) KRS 224.60-150 is broader in scope insofar as it relates to the authority to levy and collect a fee from owners or operators of USTs for the purpose of funding the administration of the UST Program.

(10) KRS 224.60-160 is external insofar as it relates to the severability of any provision of the statute.

(B) 401 Kentucky Administrative Regulations (KAR) Chapter 42:

(1) 401 KAR 42:020

(i) Section 2(1)(b) is external insofar as it relates to the attendance of a KDEP representative during installation.

(ii) Sections 2(2)-(6) are broader in scope insofar as they relate to UST registration requirements.

(iii) Section 2(7)(c) is broader in scope insofar as it relates to the submittal of an amended UST Registration Form for UST sale.

(iv) Sections 2(8)-(9) are broader in scope insofar as they relate to registration requirements and the collection of annual fees.

(v) Section 3(1) is broader in scope insofar as it relates to the submittal of an amended UST Registration Form for temporary closure.

(vi) Section 7 is broader in scope insofar as it places requirements on shear valves, components that are not UST system components.

(vii) Sections 11(4) and (9) are broader in scope insofar as they place certification and qualification requirements directly on corrosion prevention, protection, and repair contractors.

(viii) Section 13(2) is broader in scope insofar as it requires repair contractors to be certified by the State Fire Marshal.

(ix) Sections 15(6) and (7) are broader in scope insofar as they place qualification requirements directly on system equipment testers to validate equipment test results.

(x) Section 22 is external insofar as it relates to the authority of KDEP to extend compliance deadlines.

(2) 401 KAR 42:060

(i) Section 2 is external insofar as it relates to the authority of the Environmental Response Team during environmental emergencies.

(ii) Section 7 is external insofar as it relates to classification of UST facilities following closure or a release.

(iii) Section 8 is external insofar as it relates to the authority of KDEP to issue a no further action letter.

(iv) Section 9 is external insofar as it relates to the authority of KDEP to extend compliance deadlines.

(3) 401 KAR 42:250 is broader in scope insofar as it establishes eligibility requirements and procedures for the petroleum storage tank environmental assurance fund.

(4) 401 KAR 42:330 is broader in scope insofar as it establishes the eligibility requirements and rates for reimbursement from the Small Owners Tank Removal Account.

(2) Statement of legal authority. The Attorney General's statement, signed by the General Counsel for the Kentucky Energy and Environment Cabinet on September 23, 2019, though not incorporated by reference, is referenced as part of the approved underground storage tank program under subtitle I of RCRA, 42 U.S.C. 6991 et seq.

(3) Demonstration of procedures for adequate enforcement. The “Demonstration of Adequate Enforcement Procedures” submitted as part of the original application on October 7, 2019, though not incorporated by reference, is referenced as part of the approved underground storage tank program under subtitle I of RCRA, 42 U.S.C. 6991 et seq.

(4) Program description. The program description and any other material submitted as part of the original application on October 7, 2019, though not incorporated by reference, are referenced as part of the approved underground storage tank program under subtitle I of RCRA, 42 U.S.C. 6991 et seq.

(5) Memorandum of Agreement. The Memorandum of Agreement between EPA Region 4 and the Energy and Environment Cabinet, Kentucky Department for Environmental Protection, signed by the EPA Regional Administrator on August 18, 2020, though not incorporated by reference, is referenced as part of the approved underground storage tank program under subtitle I of RCRA, 42 U.S.C. 6991 et seq.

3. Amend appendix A to part 282 by adding an entry for “Kentucky” to read as follows:

Appendix A to Part 282—State Requirements Incorporated by Reference in Part 282 of the Code of Federal Regulations

* * * * *

Kentucky

(a) The statutory provisions include:

(1) Kentucky Revised Statutes (KRS) Chapter 224.

224.60-100 Underground storage tanks and regulated substances defined.

224.60-105(1) Registration of underground storage tanks—Programs to regulate tanks.

224.60-115 Definitions for KRS 224.60-120 to 224.60-150.

224.60-120 Financial responsibility of petroleum storage tank owner or operator—Administrative regulations, except (6).

224.60-135(1) Corrective action for a release into the environment from a petroleum storage tank, except the second sentence in (1).

(2) [Reserved]

(b) The regulatory provisions include:

(1) 401 Kentucky Administrative Regulations (KAR) Chapter 42.

401 KAR 42:005. Definitions for 401 KAR Chapter 42.

401 KAR 42:020. UST system requirements, notification, registration, and annual fees.

Section 1. Applicability and Exclusions.

Section 2. Notification, Registration, and Annual Fees, except (1)(b), (2)-(6), and certain provisions in (7)(c), (8) and (9).

Section 3. Temporary Closure, except (1).

Section 4. Performance Standards for New UST Systems.

Section 5. Upgrading of Existing UST Systems.

Section 6. Double Walled Tanks and Piping Requirements.

Section 8. Spill Containment Devices (Spill Buckets and Catch Basins).

Section 9. Overfill Prevention Requirements.

Section 10. Under-dispenser Containment (UDC) and Sump Requirements.

Section 11. Corrosion Protection Operation and Maintenance, except certain language in (4) and (9).

Section 12. Compatibility.

Section 13. Repairs, except (2).

Section 14. Noncorrodible Piping.

Section 15. Release Detection, except (6) and (7).

Section 16. Operator Training Requirements.

Section 17. Walkthrough Inspections.

Section 19. Recordkeeping.

Section 20. Financial Responsibility.

Section 21. Lender Liability.

Section 23. Incorporation by Reference.

401 KAR 42:060. UST system release and corrective action requirements.

Section 1. Reporting for Releases, Spills, and Overfills.

Section 3. Off-Site Impacts.

Section 4. Release Investigation and Confirmation.

Section 5. Release Response and Corrective Action.

Section 6. Permanent Closure or Change in Service.

Section 10. Incorporation by Reference.

(2) [Reserved]

* * * * *

[FR Doc. 2022-01296 Filed 1-24-22; 8:45 am]

BILLING CODE 6560-50-P